DEPARTMENT OF TRANSPORTATION

Federal Highway Administration

Federal Transit Administration

Environmental Impact Statement, Tappan Zee Bridge/I-287 Corridor Project (Rockland and Westchester Counties, New York)

AGENCY: Federal Highway Administration (FHWA), Federal Transit Administration (FTA), United States Department of Transportation (USDOT).

ACTION: Rescinded Notice of Intent.

SUMMARY: The FHWA and FTA are issuing this rescinded notice to advise the public that the FHWA and FTA will not be preparing an Environmental Impact Statement (EIS) for the proposed Tappan Zee Bridge/I-287 Corridor project involving approximately 30 miles of Interstate 287 between Hillburn/Suffern, Rockland County, New York and Port Chester, Westchester County, New York including the Tappan Zee Bridge over the Hudson River. The Tappan Zee Bridge/I-287 Corridor project considered alternatives for highway, bridge, and transit improvements along the 30-mile Interstate 287 corridor. A Notice of Intent (NOI) to prepare an Alternatives Analysis (AA) and EIS was published in the Federal Register on December 23, 2002. A Revised NOI to prepare a tiered EIS was published in the Federal Register on February 14, 2008.

FOR FURTHER INFORMATION CONTACT: Michael P. Anderson, Project Director, New York State Department of Transportation, 4 Burnett Boulevard, Poughkeepsie, New York 12603, Telephone: 518-810-9864; Jonathan McDade, Division Administrator, Federal Highway Administration, New York Division, Leo W. O'Brien Federal Building, 7th Floor, Clinton Avenue and North Pearl Street, Albany, New York 12207, Telephone: (518) 431-4127; or Anthony Carr, Region II Acting Administrator, Federal Transit Administration, One Bowling Green, Room 429, New York, New York 10004, Telephone: (1212) 668-2170.

SUPPLEMENTARY INFORMATION: On December 23, 2002, the FHWA and FTA, in cooperation with the New York State Thruway Authority (NYSTA) and Metro-North Commuter Railroad, a subsidiary of the Metropolitan Transportation Authority (MTA/MNR) issued an Notice of Intent (NOI) to prepare an Alternatives Analysis (AA) and Environmental Impact Statement (EIS) for the I-287 Corridor in Rockland and Westchester Counties, New York. The AA explored a number of options to rehabilitate or replace the Tappan Zee Bridge over the Hudson River and to provide new transit service between Rockland and Westchester Counties with continuing service to New York City.

In February 2008, FHWA and FTA issued a revised NOI to advise the public of lead agency roles; outline how the provisions of SAFETEA-LU 6002 would be met; update interested parties regarding the approach to prepare and EIS; provide updated information on the proposed project, purpose and need; and range of alternatives; and re-invite participation in project scoping and announce the dates and announce the dates and times for public scoping meetings. The revised NOI announced that a Tiered EIS would be prepared to assess alternatives developed and advanced for further study. The Tiered EIS would include a Tier 1 transit analysis of general alignment and mode choice while simultaneously assessing site specific impacts, cost, and mitigation measures in a Tier 2 EIS for bridge and highway elements of the project. The February 14, 2008 NOI also identified the New York State Department of Transportation (NYSDOT) as another sponsoring agency for the NEPA review and the State project manager.

Because of the current economic realities which severely limit financing capability, FHWA, NYSTA, and NYSDOT propose to terminate the Tappan Zee Bridge/I-287 Corridor Tiered EIS and advance a project that will address the needs of the Tappan Zee Hudson River crossing alone. Transit improvements will not be considered.

The new project will be as analyzed in a new EIS that considers alternatives for the Hudson River crossing between Rockland and Westchester Counties, New York. Prior completed studies will be used to inform the new EIS process and all reasonable alternatives under consideration for the project would not preclude cross-Hudson commuter rail and bus rapid transit services in the future.

FHWA and FTA will terminate efforts to secure a Tier 1 Record of Decision on the transit improvements, and would advance the corridor and transit improvements through appropriate planning and environmental studies in the future as circumstances and finances dictate. Any such future action will be progressed under a separate environmental review, in accordance with all applicable laws and regulations.

(Catalog of Federal Domestic Assistance Program Number 20.205, Highway Planning and Construction. The regulations implementing Executive Order 12372 regarding intergovernmental consultation on Federal programs and activities apply to this program.)

Issued on: September 26, 2011.
Jonathan D. McDade,
New York Division Administrator, Federal Highway Administration.
Anthony Carr,
Region II Acting Administrator, Federal Transit Administration.

[FR Doc. 2011-26489 Filed 10-11-11; 8:45 am]

BILLING CODE 4910-22-P